DEPARTMENT OF COMMERCE

International Trade Administration

Utah State University et. al; Application(s) for Duty-Free Entry of Scientific Instruments

Pursuant to Section 6(c) of the Educational, Scientific and Cultural Materials Importation Act of 1966 (Pub. L. 89-651, as amended by Pub. L. 106-36; 80 Stat. 897; 15 CFR part 301), we invite comments on the question of whether instruments of equivalent scientific value, for the purposes for which the instruments shown below are intended to be used, are being manufactured in the United States.

Comments must comply with 15 CFR 301.5(a)(3) and (4) of the regulations and be postmarked on or before October 6, 2025. Address written comments to Statutory Import Programs Staff, Room 40005, U.S. Department of Commerce, Washington, DC 20230. Please also email a copy of those comments to Eva.Kim@trade.gov.

Docket Number: 25-028. Applicant: Utah State University, 4415 Old Main Hill, Logan, Utah 84322. Instrument: Energy Dispersive spectroscopy (EDS) and electron backscatter diffraction (EBSD) system. Manufacturer: Oxford Instruments America, Inc., United Kingdom. Intended Use: The instrument is intended to identify the chemical composition and atomic arrangments of materials such as biological cells and tissues, 3D printed metals, geological samples, metal-organic frameworks, components in medical devices, and semiconductors and optical devices. Justification for Duty-Free Entry: According to the applicant, there are no instruments of the same general category manufactured in the United States. Application accepted by Commissioner of Customs: May 12, 2025.

Docket Number: 25-036. Applicant: Purdue University, 2550 Northwestern Avenue, West Lafayette, Indiana 47906. Instrument: Electron Probe Microanalyzer (EPMA) Manufacturer: Jeol USA Inc, Japan. Intended Use: The instrument is intended to be used to study the chemical composition of geologic and synthetic materials. Justification for Duty-Free Entry:According to the applicant, there are no instruments of the same general category manufactured in the United States. Application accepted by Commissioner of Customs: June 3, 2025.

Docket Number: 25-037. Applicant: University of Illinois Chicago, 845 West Taylor Street, Chicago, Illinois 60607. Instrument: JEM-Z200MF: Monochromated-MARS NEOARM and EM-Z072152MONO: Field Emission Gun W/Monochromator. Manufacturer: Jeol Ltd. Japan. Intended Use: The instrument is intended to be used to study magnetic, superconducting, quantum, biological and 2-D materials, where the presence of a magnetic field otherwise affects their structural, optical, electronic or transport properties. Justification for Duty-Free Entry: According to the applicant, there are no instruments of the same general category manufactured in the United States. Application accepted by Commissioner of Customs: June 3, 2025.

Docket Number: 25-038. Applicant: Northwestern University, 633 Clark Street, Evanston, Illinois 60208. Instrument: X-Ray Photoelectron Spectroscopy (XPS) Lab System Package. Manufacturer: Scienta Omicron, Germany. Intended Use: The instrument is intended to be used to study chemical functionalization of borophene. Justification for Duty-Free Entry: According to the applicant, there are no instruments of the same general category manufactured in the United States. Application accepted by Commissioner of Customs: June 5, 2025.

Docket Number: 25-040. Applicant: Stevens Institute of Technology, Castle Point on Hudson, Hoboken, New Jersey 07030. Instrument: EasySpec SHG Second Harmonic Generation Microspectroscopy Testing System. Manufacturer: Metatest Corporation, China. Intended Use:The instrument is intended to be used to study crystal lattice direction in 2D materials. Justification for Duty-Free Entry: According to the applicant, there are no instruments of the same general category manufactured in the United States. Application accepted by Commissioner of Customs: June 10, 2025.

Docket Number: 25-041. Applicant: Hampton University, 100 E Queen Street, Hampton, Virginia 23668. Instrument: JEM-2100PLUS—Transmission Electron Microscope and JB-29510VET Vacuum Evaporator. Manufacturer: JEOL Ltd., Japan. Intended Use:The instrument is intended to be used to advance understanding and development of semiconductors, nanostructured, opto-electronic and biomaterials. Justification for Duty-Free Entry:According to the applicant, there are no instruments of the same general category manufactured in the United States. Application accepted by Commissioner of Customs: June 17, 2025.

Docket Number: 25-042. Applicant: University of Texas at Austin, 2515 Speedway, Austin, Texas 78712. Instrument: Dilution Refrigerator with Superconducting Magnets and Cold-Insertable Probes. Manufacturer: Leiden Cryogenics B.V., Netherlands. Intended Use: The instrument is intended to be used to study topological quantum physics in two-dimensional semiconductors such as graphene and transition-metal dichalcogenides. Justification for Duty-Free Entry: According to the applicant, there are no instruments of the same general category manufactured in the United States. Application accepted by Commissioner of Customs: June 3, 2025.

Docket Number: 25-043. Applicant: University of Texas at Austin, 2515 Speedway, Austin, Texas 78712. Instrument: Low-temperature nanopositioners, scanners and controllers for high-vacuum environment. Manufacturer: Attocube Systems AG, Germany. Intended Use: The instrument is intended to be used to study topological quantum physics and strongly correlated electron physics in two-dimensional semiconductors such as graphene and transition-metal dichalcogenides. Justification for Duty-Free Entry: According to the applicant, there are no instruments of the same general category manufactured in the United States. Application accepted by Commissioner of Customs: June 18, 2025.

Docket Number: 25-044. Applicant: Cornell University, 142 Sciences Drive, Ithaca, New York 14853. Instrument: Optical Elements. Manufacturer: FOCtek Photonics Inc., China. Intended Use: The instrument is intended to be used to study the efficiency of quantum algorithms using trapped ion systems and utilizing trapped ion systems as precision probes for search of new physics. Justification for Duty-Free Entry: According to the applicant, there are no instruments of the same general category manufactured in the United States. Application accepted by Commissioner of Customs: June 17, 2025.

Docket Number: 25-045. Applicant: UChicago Argonne LLC, 9700 S Cass Avenue, Lemon, Illinois 60439. Instrument: CITIUS 280k Camera System. Manufacturer: KAI Scientific Limited, Japan. Intended Use: The instrument is intended to be used to study advanced materials and nanostructures, biological and soft matter systems and dynamic phenomena that are typical of modern Advanced Photon Source (APS) experiments. Justification for Duty-Free Entry: According to the applicant, there are no instruments of the same general category manufactured in the United States. Application accepted by Commissioner of Customs: June 9, 2025.

Docket Number: 25-047. Applicant: UChicago Argonne LLC, 9700 S Cass Avenue, Lemon, Illinois 60439. Instrument: NAP-XPS System in Backfilling Configuration. Manufacturer: Specs TII Inc., Germany. Intended Use: The instrument is intended to be used to further the understanding of different materials and material properties (chemical state, defects and electronic structures) and their changes under different environments. Justification for Duty-Free Entry: According to the applicant, there are no instruments of the same general category manufactured in the United States. Application accepted by Commissioner of Customs: June 11, 2025.

Docket Number: 25-048. Applicant: Bartelle Memorial Institute 902 Battelle Blvd., Richland, Washington 99354. Instrument: Betatron System—cyclic particle accelerator for electrons. Manufacturer: JME Advanced Inspection Systems, United Kingdom. Intended Use: The instrument is intended to be used to for both imaging and radiation effects testing in a variety of materials ranging from standard construction like materials (concrete and metals) to electronics. The instrument will also be used to test radiological detection instruments and commercial items (Cameras, robots) to determine how well they will work for radiological uses. Justification for Duty-Free Entry: According to the applicant, there are no instruments of the same general category manufactured in the United States. Application accepted by Commissioner of Customs: June 5, 2025.

Docket Number: 25-049. Applicant: Stanford University, 348 Via Pueblo Rd., Stanford, California 94305. Instrument: Polarization maintaining, large mode-area hollow-core photonic crystal fiber. Manufacturer: NKT Photonics, Denmark. Intended Use: The instrument is intended to conduct experiments involving multimode optical cavities coupled to degenerate quantum gases of Dysprosium and will be used to study various classes of many-body Hamiltonians by exploiting Dysprosium's large magnetic dipole moment, stable and abundant fermionic and bosonic isotopes, large tensor polarizability, and the degenerate cavity's unique photon-mediated interactions. Justification for Duty-Free Entry: According to the applicant, there are no instruments of the same general category manufactured in the United States. Application accepted by Commissioner of Customs: June 3, 2025.

Dated: September 12, 2025.
Tyler J. O'Daniel,
Acting Director, Subsidies Enforcement Office, Enforcement and Compliance.

[FR Doc. 2025-17902 Filed 9-15-25; 8:45 am]

BILLING CODE 3510-DS-P